DEPARTMENT OF TRANSPORTATION

Federal Aviation Administration

Notice of Availability of the Record of Decision Approving the Release of Grant Obligations Associated With the Proposed Construction of a Freeway Connection Between the Existing Milan Beltway and the Urbanized Area North of Rock River in Moline, IL

AGENCY: Federal Aviation Administration (FAA), DOT.

ACTION: Notice of availability of the Record of Decision (ROD).

SUMMARY: The Federal Highway Administration (FHWA) and Illinois Department of Transportation (IDOT) prepared an Environmental Impact Statement (EIS) for the construction of a new freeway connection between the existing Milan Beltway and the urbanized area north of Rock River in Moline, Illinois for the purpose of providing additional transportation capacity over the Rock River and to avoid the need to reconstruct IL 5 (Blackhawk Road) through Black Hawk State Historic Site. As a cooperating agency to the EIS, the Federal Aviation Administration (FAA) coordinated with FWHA and IDOT the design alternatives for the proposed interchange at the Milan Beltway—Airport Road intersection. The current Milan Beltway is approximately 2,700 feet from the west end of Runway 9-27 at the Quad City International Airport. With this Record of Decision, the FAA is announcing its approval of a release of land grant obligations over 14.380 acres of airport property. FAA's decision for its action considered the environmental impacts of the proposed project and the alternatives discussed in the EIS.

FOR FURTHER INFORMATION CONTACT: Bobb A. Beauchamp, Federal Aviation Administration, Chicago Airports District Office, Environmental Program Manager, 2300 E. Devon Ave., Suite 320, Des Plaines, Illinois 60018, telephone (847) 294-7364, e-mail bobb.beauchamp@faa.gov. Copies of EIS and the FHWA ROD are available from Norman R. Stoner, P.E., Division Administrator, Federal Highway Administration, U.S. Department of Transportation, 3250 Executive Park Drive, Springfield, Illinois 62703, telephone (217) 492-4640.

SUPPLEMENTARY INFORMATION: FHWA was the lead agency for the Project EIS (FHWA-IL-EIS-93-04-F). FAA accepted FHWA's May 4, 1988 invitation for cooperating agency status in preparing the EIS. After an independent review of the Final EIS, FAA concluded that its comments and suggestions were addressed in the Final EIS. The purpose of this notice is to inform the public that the Record of Decision (ROD) approving the release of the airport's land grant obligations for the property identified in the Final EIS is available to anyone upon request. Any person may obtain a copy of FAA's ROD by submitting a request to the FAA contact identified above.

FHWA signed its ROD for the project on July 9, 2003, in which it selected as part of its preferred alternative a grade separation and combination cloverleaf/diamond type interchange at the present Milan Beltway—Airport Road intersection. This interchange design requires the sale of 14.380 acres of airport property to IDOT, including a 3.9-acre encroachment into the runway protection zone (RPZ) for Runway 9 at Quad City International Airport. The airport is required to seek a release from Federal obligations prior to the sale of these lands. The Quad City International Airport does not require these lands for airport use. FHWA's ROD included several commitments to FAA and the Metropolitan Airport Authority of Rock Island County, re-stated in FAA's ROD, to ensure that the project will not pose a hazard to air navigation.

FAA's ROD examines the build alternatives for the Milan Beltway—Airport Road grade connection to the proposed Milan Beltway connection, which will be a four-land, fully access controlled expressway bridge over the Rock River. FAA's preferred alternative is the No Action Alternative, which requires no action on behalf of the Quad City International Airport. This Alternative would prevent any development in the southeast quadrant of the Milan Beltway—Airport Road intersection, eliminating the need to transfer any airport proposed to IDOT. However, the proximity of Route 280, roughly 1000 feet north of Airport Road, presents economic and engineering barriers that make the No Action Alternative impracticable.

FAA's ROAD concurs with FHWA's Selected Alternative, requiring the sale of 14.380 acres of airport property to IDOT. The Selected Alternative, constructing a partial cloverleaf/diamond interchange in the southeast quadrant of the Milan Beltway—Airport Road intersection, avoids the economic and engineering constraints posed by the proximity of Route 280, satisfies FHWA's purpose and need, poses the least impacts to the natural and human environment, may be advanced through detailed design and construction, and will pose no hazard to air navigation.

Questions may be directed to the individual named above under the heading FOR FURTHER INFORMATION CONTACT.

Issued in Des Plaines, Illinois, December 29, 2003.
Chad Oliver,
Acting Manager, Chicago Airports District Office, FAA Great Lakes Region.

[FR Doc. 04-1271 Filed 1-21-04; 8:45 am]

BILLING CODE 4910-13-M